DEPARTMENT OF COMMERCE

International Trade Administration

Announcement of Performance Review Board Members

Correction

In notice document E6-15200 beginning on page 53666 in the issue of Tuesday, September 12, 2006, make the following correction:

On page 53667, in the first column, in numbered paragraph 5., in the second line, “Executive Secretary” should read “At-Large”.

[FR Doc. Z6-15200 Filed 9-20-06; 8:45 am]

BILLING CODE 1505-01-D

ENVIRONMENTAL PROTECTION AGENCY

40 CFR Part 63

[EPA-HQ-OAR-2005-0155; FRL-8200-2]

RIN 2060-AK18

National Perchloroethylene Air Emission Standards for Dry Cleaning Facilities

Correction

In rule document 06-6447 beginning on page 42724 in the issue of Thursday, July 27, 2006, make the following correction:

§63.323 [Corrected]

On page 42745, in the third column, in §63.323(b)(1), in the fifth line, “25 parts per million ” should read “± 25 parts per million“.

[FR Doc. C6-6447 Filed 9-20-06; 8:45 am]

BILLING CODE 1505-01-D